ENVIRONMENTAL PROTECTION AGENCY

[EPA-HQ-OPP-2009-0045; FRL-8792-7]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before November 6, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have a typical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 9E7591. (EPA-HQ-OPP-2009-713). Interregional Research Project Number 4 (IR-4), IR-4 Project, 500 College Rd. East, Suite 201W, Princeton, NJ 08540, proposes to establish a tolerance in 40 CFR part 180 for the combined residues of the fungicide mefenoxam, ( R )- and ( S )-2-[(2,6-dimethyl(phenyl)-methoxyacetylamine]-propionic acid methyl ester, and its metabolites containing the 2,6 dimethylaniline moiety, and N -(2-hydroxy methyl-6-methylphenyl)- N -(methoxyacetyl)-alanine methyl ester in or on bean, snap, succulent at 0.35 parts per million (ppm); caneberry, subgroup 13-07A at 0.80 ppm; bushberry, subgroup 13-07B at 2.0 ppm; onion, bulb, subgroup 3-07A at 3.0 ppm; onion, green, subgroup 3-07B at 10.0 ppm, and spinach at 8.0 ppm. Snap bean and caneberry samples were analyzed for mefenoxam (parent only) using a procedure derived from “Confirmatory Analytical Method for the Enantioselective Determination of Residues of Parent Metalaxyl (CGA-48988) or Mefenoxam (CGA-329351) in Crop Substrates by Chiral High Performance Liquid Chromatography with Mass Spectrometric Detection” (Novartis Crop Protection, Inc., Procedure 456-98, March, 1999). Minor modifications were made to improve the performance of the method. The limit of quantitation (LOQ) for the method is 0.028 ppm for snap beans and 0.059 for caneberries. Selected samples from the snap bean and caneberry trials were also analyzed with the combined residue method that converts everything to N-(2,6-dimethylpheny1)-N(methoxyacetyl)alanine methyl ester. This served as a bridging study for the other samples that were only analyzed for parent.

The common moiety method was also used for the spinach trials. The analytical method used was Ciba-Geigy Corporation Procedure AG-395, “Improved Method for the Determination of Total Residues of Metalaxyl in Crop as 2,6-dimethylaniline,” December 1982. This total residue method is used for the determination of the combined residues of metalaxyl N-(2,6-dimethylpheny1)-N-(methoxyacetyl)alanine methyl ester and its metabolites which contain the 2,6-dimethylaniline (2, 6-DMA) moiety in crop samples. Contact: Laura Nollen, (703) 305-7390; nollen.laura@epa.gov.

2. PP 9E7594. (EPA-HQ-OPP-2009-0644). Interregional Research Project Number 4 (IR-4), 500 College Rd. East, Suite 201W, Princeton, NJ 08540, proposes to establish a tolerance in 40 CFR part 180 for residues of the insecticide fenpropathrin, alpha-cyano-3-phenoxy-benzyl 2,2,3,3-tetramethylcyclopropanecarboxylate in or on guava, acerola, feijoa, jaboticaba, passionfruit, starfruit and wax jambu at 1.5 ppm; lychee, longan, Spanish lime, pulasan and rambutan at 3.0 ppm; sugar apple, atemoya, biriba, cherimoya, custard apple, ilama, and soursop at 1.0 ppm; and tea at 2.0 ppm. Adequate analytical methodology is available to detect and quantify fenpropathrin at residue levels in numerous matrices. The methods use solvent extraction and partition and/or column chromatography clean-up steps, followed by separation and quantitation using capillary gas liquid chromatography (GLC) with flame ionization detector (FID). The extraction efficiency has been validated using radiocarbon samples from the plant and animal metabolism studies. The enforcement methods have been validated at independent laboratories and by EPA. The limit of quantification (LOQ) for fenpropathrin in raw agricultural commodity samples is usually 0.01 ppm. Contact: Laura Nollen, (703) 305-7390; nollen.laura@epa.gov.

3. PP 8F7371. (EPA-HQ-OPP-2008-0732). BASF Corporation, 26 Davis Drive, Research Triangle Park, NC 27709, proposes to establish a tolerance in 40 CFR part 180 for residues of the fungicide metrafenone in or on grapes, fruit at 4.5 ppm; grapes, juice at 0.45 ppm; and grapes, raisin at 17 ppm. BASF analytical methods No. FAMS 105-01 “CL 375839: Analytical method for the determination of the active ingredient in grapes,” and No. FAMS 106-01 “CL 4375839: Analytical method for the determination of the active ingredient in must and wine,” were developed to determine residues of metrafenone in grapes and wine, respectively. Quantitative determination of metrafenone is carried out by capillary gas chromatography with an electron capture detector (GC/ECD). An independent laboratory validation demonstrated good performance of these methods. Contact: Tony Kish, (703) 308-9443; kish.tony@epa.gov.

4. PP 9F7528. (EPA-HQ-OPP-2009-0672). BASF Corporation, P.O. Box 13528, Research Triangle Park, NC, 27709, proposes to establish a tolerance in 40 CFR part 180 for residues of the fungicide pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound, in or on alfalfa, forage at 9 ppm and alfalfa, hay at 27 ppm. In plants the method of analysis is aqueous organic solvent extraction, column clean-up and quantitation by liquid chromatography/mass spectrometry/mass spectrometry (LC/MS/MS). In animals the method of analysis involves base hydrolysis, organic extraction, column clean-up and quantitation by LC/MS/MS or derivatization (methylation) followed by quantitation by gas chromatography/MS (GC/MS). Contact: John Bazuin, (703) 305-7381; bazuin.john@epa.gov.

5. PP 9F7567. (EPA-HQ-OPP-2009-0677). Arysta LifeScience North America, LLC, 15401 Weston Parkway, Suite 150, Cary, NC 27513, proposes to establish a tolerance in 40 CFR part 180 for residues of the fungicide fluoxastrobin, (1E)-[2-[[6-(2-chlorophenoxy)-5-fluoro-4-pyrimydinyl]oxy]phenyl](5,6-dihydro-1,4,2-dioxazin-3-yl)methanone O-methyloxime, and its Z isomer, (1Z)-[2-[[6-(2-chlorophenoxy)-5-fluoro-4-pyrimydinyl]oxy]phenyl](5,6-dihydro-1,4,2-dioxazin-3-yl)methanone O-methyloxime in or on wheat, grain at 0.09 ppm; wheat, bran at 0.2 ppm; wheat, forage at 7.0 ppm; wheat, hay at 17 ppm; wheat, straw at 11 ppm; aspirated grain fractions at 15 ppm; sweet corn (kernels plus cob with husks removed) at 0.02 ppm; sweet corn, forage at 13 ppm; sweet corn, stover at 10 ppm; and meat byproducts (cattle, goat, horse sheep) at 0.2 ppm. Adequate analytical methodology using high performance liquid chromatography/mass spectrometry/mass spectrometry (HPLC/MS/MS) detection is available for enforcement purposes. Contact: John Bazuin, (703) 305-7381; bazuin.john@epa.gov.

6. PP 9F7602. (EPA-HQ-OPP-2009-0682). Bayer CropScience, P.O. Box 12014, 2 T.W. Alexander Dr., Research Triangle Park, NC 27709, proposes to establish a tolerance in 40 CFR part 180 for residues of the insecticide spiromesifen; 2-oxo-3-(2,4,6-trimethylphenyl)-1-oxaspiro(4,4)non-3-en-4-yl 3,3-dimethylbutanoate and its enol metabolite; 4-hydroxy-3-(2,4,6-trimethylphenyl)-1-oxaspiro[4,4]non-3-en-2-one, calculated as parent compound equivalents in or on vegetable, leafy petiole, crop group 4B at 6.0 ppm. Adequate analytical methodology using liquid chromatography/mass spectrometry/mass spectrometry (LC/MS/MS) detection is available for enforcement purposes. Contact: Jennifer Gaines, (703) 305-5967; gaines.jennifer@epa.gov.

Amended Tolerances

1. PP 9E7591. (EPA-HQ-OPP-2009-0713). Interregional Research Project Number 4 (IR-4), IR-4 Project, 500 College Rd. East, Suite 201W, Princeton, NJ 08540, proposes to remove the tolerance in 40 CFR 180.546 for the combined residues of the fungicide mefenoxam, ( R )- and ( S )-2-[(2,6-dimethyl(phenyl)-methoxyacetylamine]-propionic acid methyl ester, and its metabolites containing the 2,6 dimethylaniline moiety, and N -(2-hydroxy methyl-6-methylphenyl)- N -(methoxyacetyl)-alanine methyl ester in or on lingonberry at 2.0 ppm. Contact: Laura Nollen, (703) 305-7390; nollen.laura@epa.gov.

2. PP 9E7592. (EPA-HQ-OPP-2009-0714). Arysta LifeScience North America, LLC, 15401 Weston Parkway, Cary, NC 27513, proposes to amend the tolerances in 40 CFR 180.560 by establishing a tolerance for the combined residues of cloquintocet-mexyl, (acetic acid, [(5-chloro-8-quinolinyl)oxy-,1-methylhexyl ester) (CAS Reg. No. 99607-70-2) and its acid metabolite (5-chloro-8-quinolinoxyacetic acid, also known as CGA-153433) when used as a pesticide inert ingredient (safener) in pesticide formulations containing the herbicide flucarbazone-sodium (wheat only), pinoxaden (wheat or barley), clodinafop-propargyl (wheat only), or pyroxsulum (wheat only) in or on barley, grain at 0.10 ppm; barley, hay at 0.10 ppm; barley, straw at 0.10 ppm; wheat, grain at 0.10 ppm; wheat, forage at 0.2 ppm; wheat, hay at 0.50 ppm; and wheat, straw at 0.10 ppm. The analytical methodology for detecting and measuring combined levels of cloquintocet-mexyl and its acid metabolite 5-chloro-8-quinolinoxylacetic acid has been submitted to the Agency. The method is based upon acid hydrolysis extraction, which converts the parent and all conjugates to the acid metabolite. The acid metabolite is subject to commodity specific clean-up procedures and high performance liquid chromatography (HPLC) determination with triple stage quadruple mass spectrometry (LC/MS/MS). The limit of quantitation (LOQ), as demonstrated by the lowest acceptable recovery samples, is 0.01 ppm for grain and 0.02 ppm for forage, hay and straw. Contact: Karen Samek, (703) 347-8825; samek.karen@epa.gov.

New Tolerance Exemptions

1. PP 9E7574. (EPA-HQ-OPP-2009-0480). UDL Laboratories, Inc., 12720 Dairy Ashford, Sugar Land, TX 77478, proposes to establish an exemption from the requirement of a tolerance for residues of poly(oxy-1,2-ethanediyl), α-hydro-ω-hydroxy-, polymer with 1,1'-methylene-bis-[4- isocyanatocyclohexane and having a number average molecular weight of 1,858 (CAS No. 39444-87-6) under 40 CFR 180.960 for use as an excipient when used as a pesticide inert ingredient in pesticide formulations. The petitioner believes an analytical method to determine residues is not relevant based upon the definition of a low risk polymer under 40 CFR 723.250. Contact: Elizabeth Fertich, (703) 347-8560; fertich.elizabeth@epa.gov.

2. PP 9E7584. (EPA-HQ-OPP-2009-0663). Pimi Agro CleanTech, Ltd., P.O. Box 117, Hutzot Alonim, 30049, Israel c/o Wagner Regulatory Associates, Inc., P.O. Box 640, Hockessin, DE 19707, proposes to establish an exemption from the requirement of a tolerance for residues of silver nitrate (CAS No. 7761-88-8) under 40 CFR 180.910 on stored potatoes when used as a pesticide inert ingredient (stabilizer) in pesticide formulations of the active ingredient hydrogen peroxide as a post-harvest treatment to control sprouting. The petitioner believes no analytical method is needed because it is proposed that silver nitrate be exempt from the requirement for a tolerance for residues. Contact: Alganesh Debesai, (703) 308-8353; debesai.alganesh@epa.gov.

3. PP 9E7586. (EPA-HQ-OPP-2009-0676). WHITMIRE MICROGEN c/o Landis International, Inc., P.O. Box 5126, Valdosta, GA 31603-5126, proposes to establish an exemption from the requirement of a tolerance for residues of isobutane (CAS No. 75-28-5) when used as a pesticide inert ingredient in pesticide formulations used in accordance with good agricultural practice as an aerosol propellant in pesticide formulations used pre- and post-harvest 40 CFR 180.910 and when applied to animals 40 CFR 180.930. The petitioner believes no analytical method is needed because it is proposed that isobutane be exempt from the requirement for a tolerance for residues. Contact: Keri Grinstead, (703) 308-8373; grinstead.keri@epa.gov.

4. PP 9E7595. (EPA-HQ-OPP-2009-0675). BASF Corporation, 100 Campus Dr., Florham Park, NJ 07932, proposes to establish an exemption from the requirement of a tolerance for residues of oxirane, 2-methyl-, polymer with oxirane, dimethyl ether (CAS No. 61419-46-3) under 40 CFR 180.960 when used as a pesticide inert ingredient as a surfactant in pesticide formulations without limitation. The petitioner believes no analytical method is needed because it is proposed that oxirane, 2-methyl-, polymer with oxirane, dimethyl ether be exempt from the requirement of a tolerance for residues. Contact: Keri Grinstead, (703) 308-8373; grinstead.keri@epa.gov.

5. PP 9E7599. (EPA-HQ-OPP-2009-0662). Akzo Nobel Surface Chemistry, LLC, 909 Mueller Ave., Chattanooga, TN 37406, proposes to establish an exemption from the requirement of a tolerance for residues and requests the elimination of the need to establish a maximum permissible level for residues of acrylic acid-benzyl methacrylate-1-propanesulfonic acid, 2-methyl-2-[1(1-oxo-2-propenyl)amino]-, monosodium salt copolymer (CAS No. 1152297-42-1) when used as a pesticide inert ingredient as a dispersant in pesticide formulations under 40 CFR 180.960 in or on all raw agricultural commodities. The petitioner believes no analytical method is needed because this information is generally not required when all criteria for polymer exemption under 40 CFR 723.250 are met. In addition, Akzo Nobel is petitioning for an exemption from the requirement of a tolerance without any numerical limitations. Contact: Alganesh Debesai, (703) 308-8353; debesai.alganesh@epa.gov.

6. PP 9E7603. (EPA-HQ-OPP-2009-0693). Croda, Inc., 315 Cherry Lane, New Castle, DE, proposes to establish an exemption from the requirement of a tolerance for residues of the following polymerized fatty acid copolymer esters under 40 CFR 180.960 low risk polymers:

Dimethylaminoethanol, ethoxylated, reaction products with fatty acid dimers (CAS Reg. No. 1173188-38-9);

Dimethylaminoethanol, ethoxylated, propoxylated, reaction products with fatty acid dimers (CAS Reg. No. 1173188-42-5);

Diethylaminoethanol, ethoxylated, reaction products with fatty acid dimers (CAS Reg. No. 1173188-72-1);

Diethylaminoethanol, ethoxylated, propoxylated, reaction products with fatty acid dimers (CAS Reg. No. 1173188-75-4);

Dimethylaminoethanol, ethoxylated, reaction products with fatty acid trimers (CAS Reg. No. 1173188-49-2);

Dimethylaminoethanol, ethoxylated, propoxylated, reaction products with fatty acid trimers (CAS Reg. No. 1173188-67-4);

Diethylaminoethanol, ethoxylated, reaction products with fatty acid trimers (CAS Reg. No. 1173188-81-2);

Diethylaminoethanol, ethoxylated, propoxylated, reaction products with fatty acid trimers (CAS Reg. No. 1173188-83-4);

Hydroxyethylmorpholine, ethoxylated, reaction products with fatty acid dimers (CAS Reg. No. 1173189-00-8);

Hydroxyethylmorpholine, ethoxylated, propoxylated, reaction products with fatty acid dimers (CAS Reg. No. 1173189-06-4);

Hydroxyethylpiperidine, ethoxylated, reaction products with fatty acid dimers (CAS Reg. No. 1173189-20-2);

Hydroxyethylpiperidine, ethoxylated, propoxylated, reaction products with fatty acid dimers (CAS Reg. No. 1173189-22-4);

Hydroxyethylmorpholine, ethoxylated, reaction products with fatty acid trimers (CAS Reg. No. 1173189-09-7);

Hydroxyethylmorpholine, ethoxylated, propoxylated, reaction products with fatty acid trimers (CAS Reg. No. 1173189-17-7);

Hydroxyethylpiperidine, ethoxylated, reaction products with fatty acid trimers (CAS Reg. No. 1173189-25-7);

and Hydroxyethylpiperidine, ethoxylated, propoxylated, reaction products with fatty acid trimers (CAS Reg. No. 1173189-28-0)

when used as a pesticide inert ingredient in pesticide formulations. Requirements for an analytical method are not applicable to a request to establish an exemption from the requirement of a tolerance. An analytical method is not provided as the Agency does not require it to rule on the exemption from the requirement of a tolerance for a Low Risk Polymer inert ingredient. Contact: Deirdre Sunderland, (703) 603-0851; sunderland.deirdre@epa.gov.

7. PP 9E7608. (EPA-HQ-OPP-2009-0691). BASF Corporation, 100 Campus Dr., Florham Park, NJ 07932, proposes to establish an exemption from the requirement of a tolerance for residues of 2-propenoic acid, butyl ester, polymer with ethenylbenzene, methyl 2-methyl-2-propenoate and 2-propenoic acid (CAS No. 27306-39-4) under 40 CFR 180.960 when used as a pesticide inert ingredient as a surfactant in pesticide formulations without limitation. The petitioner believes no analytical method is needed because this petition is a request for an exemption from the requirement of a tolerance. Contact: Lisa Austin, (703) 305-7894; austin.lisa@epa.gov.

8. PP 9E7609. (EPA-HQ-OPP-2009-0699). BASF Corporation, 100 Campus Dr., Florham Park, NJ 07932, proposes to establish an exemption from the requirement of a tolerance for residues of 2-propenoic acid, 2-ethylhexyl ester, polymer with ethenylbenzene and 2-methylpropyl 2-methyl-2-propenoate (CAS No. 68240-06-2) under 40 CFR 180.960 when used as a pesticide inert ingredient as a surfactant in pesticide formulations without limitation. The petitioner believes no analytical method is needed because this petition is a request for an exemption from the requirement of a tolerance. Contact: Elizabeth Fertich, (703) 347-8560; fertich.elizabeth@epa.gov.

List of Subjects

Environmental protection, Agricultural commodities, Feed additives, Food additives, Pesticides and pests, Reporting and recordkeeping requirements.

Dated: September 24, 2009.
Lois Rossi,
Director, Registration Division, Office of Pesticide Programs.

[FR Doc. E9-24061 Filed 10-6-09; 8:45 am]

BILLING CODE 6560-50-S